DEPARTMENT OF THE TREASURY

Office of Foreign Assets Control

Sanctions Actions Pursuant to the Foreign Narcotics Kingpin Designation Act

AGENCY: Office of Foreign Assets Control, Treasury.

ACTION: Notice.

SUMMARY: The U.S. Department of the Treasury's Office of Foreign Assets Control (OFAC) is publishing the names of persons whose property and interests in property have been blocked pursuant to the Foreign Narcotics Kingpin Designation Act (Kingpin Act), 21 U.S.C. 1901-1908.

DATES: OFAC's actions described in this notice were effective on February 13, 2017.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The list of Specially Designated Nationals and Blocked Persons (SDN List) and additional information concerning OFAC sanctions programs are available from OFAC's Web site at http://www.treasury.gov/ofac.

Notice of OFAC Actions

On February 13, 2017, OFAC blocked the property and interests in property of the following persons pursuant to section 805(b) of the Kingpin Act and placed them on the SDN List.

Individuals

1. EL AISSAMI MADDAH, Tareck Zaidan (a.k.a. EL AISSAMI, Tareck; a.k.a. EL AISSAMI, Tarek), Venezuela; DOB 12 Nov 1974; POB El Vigia, Merida, Venezuela; citizen Venezuela; Gender Male; Passport C1668015 (Venezuela); Identification Number 12.354.211 (Venezuela); Executive Vice President; Former Governor of Aragua State (individual) [SDNTK]. Playing a significant role in international narcotics trafficking, and therefore meets the criteria for designation pursuant to section 805(b)(4) of the Kingpin Act, 21 U.S.C. 1904(b)(4).

2. LOPEZ BELLO, Samark Jose (a.k.a. LOPEZ DELGADO, Samark), Caracas, Venezuela; DOB 27 Jul 1974; POB Venezuela; citizen Venezuela; Gender Male; Passport 122560011 (Venezuela); alt. Passport 055439970 (Venezuela); alt. Passport 002494535 (Venezuela); Identification Number 11.208.888 (Venezuela) (individual) [SDNTK] (Linked To: PROFIT CORPORATION, C.A.; Linked To: YAKIMA TRADING CORPORATION; Linked To: GRUPO SAHECT, C.A.; Linked To: ALFA ONE, C.A.; Linked To: SMT TECNOLOGIA, C.A.; Linked To: SERVICIOS TECNOLOGICOS INDUSTRIALES, C.A.; Linked To: MFAA HOLDINGS LIMITED; Linked To: 1425 BRICKELL AVE 63-F LLC; Linked To: 1425 BRICKELL AVENUE UNIT 46B, LLC; Linked To: 1425 BRICKELL AVENUE 64E LLC; Linked To: AGUSTA GRAND I LLC; Linked To: 200G PSA HOLDINGS LLC). Materially assisting in, or providing financial or technological support for or to, or providing goods or services in support of, the international narcotics trafficking activities of, and acting for or on behalf of, Tareck Zaidan EL AISSAMI MADDAH, and therefore meets the criteria for designation pursuant to sections 805(b)(2) and (3) of the Kingpin Act, 21 U.S.C. 1904(b)(2) and (3).

Entities

1. 1425 BRICKELL AVE 63-F LLC, 1425 Brickell Ave 63-F, Miami, FL 33131, United States; Tax ID No. 71-1053365 (United States) [SDNTK]. Property within the United States that is owned or controlled by Samark Jose LOPEZ BELLO, and therefore is blocked pursuant to section 805(b) of the Kingpin Act, 21 U.S.C. 1904(b).

2. 1425 BRICKELL AVENUE 64E LLC, 1425 Brickell Avenue 64E, Miami, FL 33131, United States; Tax ID No. 90-1019707 (United States) [SDNTK]. Property within the United States that is owned or controlled by Samark Jose LOPEZ BELLO and/or MFAA HOLDINGS LIMITED, and therefore is blocked pursuant to section 805(b) of the Kingpin Act, 21 U.S.C. 1904(b).

3. 1425 BRICKELL AVENUE UNIT 46B, LLC, 1425 Brickell Avenue Unit 46B, Miami, FL 33131, United States; Tax ID No. 90-0865341 (United States) [SDNTK]. Property within the United States that is owned or controlled by Samark Jose LOPEZ BELLO, and therefore is blocked pursuant to section 805(b) of the Kingpin Act, 21 U.S.C. 1904(b).

4. 200G PSA HOLDINGS LLC, 80 SW 8th Street Suite 2000, Miami, FL 33130, United States; Tax ID No. 80-0890696 (United States) [SDNTK]. Property within the United States that is owned or controlled by Samark Jose LOPEZ BELLO, and therefore is blocked pursuant to section 805(b) of the Kingpin Act, 21 U.S.C. 1904(b).

5. AGUSTA GRAND I LLC, 80 SW 8th Street Suite 2000, Miami, FL 33130, United States; Tax ID No. 36-4802365 (United States) [SDNTK]. Property within the United States that is owned or controlled by Samark Jose LOPEZ BELLO, and therefore is blocked pursuant to section 805(b) of the Kingpin Act, 21 U.S.C. 1904(b).

6. ALFA ONE, C.A., Av. Principal, Manzana 26, Cto. Empres. Piacoa, piso 1, Ofic. 4, Zona In. Los Pinos, Puerto Ordaz, Estado Bolivar, Venezuela; RIF #J-31482089-3 (Venezuela) [SDNTK]. Owned, controlled, or directed by, or acting for or on behalf of, Samark Jose LOPEZ BELLO, and therefore meets the criteria for designation pursuant to section 805(b)(3) of the Kingpin Act, 21 U.S.C. 1904(b)(3).

7. GRUPO SAHECT, C.A., Av. Guaicaipuro, con Calle Urdaneta, Edificio San Marco, piso 9, Ofic. 9-2, Chacao, Caracas, Venezuela; RIF #J-29620174-9 (Venezuela) [SDNTK]. Owned, controlled, or directed by, or acting for or on behalf of, Samark Jose LOPEZ BELLO, and therefore meets the criteria for designation pursuant to section 805(b)(3) of the Kingpin Act, 21 U.S.C. 1904(b)(3).

8. MFAA HOLDINGS LIMITED, 281 Waterfront Drive, Road Town, Tortola, Virgin Islands, British; Company Number 1793372 (Virgin Islands, British) [SDNTK]. Owned, controlled, or directed by, or acting for or on behalf of, Samark Jose LOPEZ BELLO, and therefore meets the criteria for designation pursuant to section 805(b)(3) of the Kingpin Act, 21 U.S.C. 1904(b)(3).

9. PROFIT CORPORATION, C.A., Av. Venezuela con Calle Mohedano, Torre JWM, piso 4, Oficina 4, El Rosal, Caracas, Venezuela; RIF #J-00317392-4 (Venezuela) [SDNTK]. Owned, controlled, or directed by, or acting for or on behalf of, Samark Jose LOPEZ BELLO, and therefore meets the criteria for designation pursuant to section 805(b)(3) of the Kingpin Act, 21 U.S.C. 1904(b)(3).

10. SERVICIOS TECNOLOGICOS INDUSTRIALES, C.A., 1a Transversal, Parcela 304-26-06, Zona Industrial Los Pinos, Puerto Ordaz, Estado Bolivar, Venezuela; RIF #J-31103570-2 (Venezuela) [SDNTK]. Owned, controlled, or directed by, or acting for or on behalf of, Samark Jose LOPEZ BELLO, and therefore meets the criteria for designation pursuant to section 805(b)(3) of the Kingpin Act, 21 U.S.C. 1904(b)(3).

11. SMT TECNOLOGIA, C.A., Av. Venezuela, Edificio JWM, piso 7, Ofic. 72 (al lado de Banavih), El Rosal, Caracas, Venezuela; RIF #J-40068226-6 (Venezuela) [SDNTK]. Owned, controlled, or directed by, or acting for or on behalf of, Samark Jose LOPEZ BELLO, and therefore meets the criteria for designation pursuant to section 805(b)(3) of the Kingpin Act, 21 U.S.C. 1904(b)(3).

12. YAKIMA OIL TRADING, LLP, 7 Welbeck Street, London W1G 9YE, United Kingdom; Commercial Registry Number OC390985 (United Kingdom) [SDNTK]. Owned, controlled, or directed by, or acting for or on behalf of, YAKIMA TRADING CORPORATION, and therefore meets the criteria for designation pursuant to section 805(b)(3) of the Kingpin Act, 21 U.S.C. 1904(b)(3).

13. YAKIMA TRADING CORPORATION, Ph Ocean Business Plaza (Torre Banesco) Plaza Marbella, Piso 24, Oficina 24-08, Calle Aquilino de la Guardia y Calle 47 (Zona Bancaria), Panama; Barbados; RUC #3196611412868 (Panama) [SDNTK]. Owned, controlled, or directed by, or acting for or on behalf of, Samark Jose LOPEZ BELLO, and therefore meets the criteria for designation pursuant to section 805(b)(3) of the Kingpin Act, 21 U.S.C. 1904(b)(3).

Aircraft

1. N200VR, 80 SW 8th Street, Suite 2000, Miami, FL 33130, United States; Aircraft Model Gulfstream 200; Aircraft Manufacturer's Serial Number (MSN) 133; Aircraft Tail Number N200VR (aircraft) [SDNTK] (Linked To: 200G PSA HOLDINGS LLC). Owned or controlled by 200G PSA HOLDINGS LLC, and therefore is blocked pursuant to section 805(b) of the Kingpin Act, 21 U.S.C. 1904(b).

Dated: February 13, 2017.
Andrea M. Gacki,
Acting Director, Office of Foreign Assets Control.

[FR Doc. 2017-03209 Filed 2-16-17; 8:45 am]

BILLING CODE 4810-AL-P